DEPARTMENT OF HEALTH AND HUMAN SERVICES
Centers for Medicare and Medicaid Services
[Document Identifier: CMS-10101, CMS-10093, CMS-304&304a, CMS-565, and CMS-R-246]
Agency Information Collection Activities: Submission for OMB Review; Comment Request

AGENCY:
Centers for Medicare and Medicaid Services.
In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.
1. Type of Information Collection Request: New collection; Title of Information Collection: Survey of Medicare Preferred Provider Organization Demonstration Form No.: CMS-10101 (OMB# 0938-NEW); Use: This information collection will be used to collect information from Medicare Beneficiaries to understand beneficiary experiences with the new managed care option and to understand which Medicare beneficiaries are attracted to the PPO model and why. CMS also wants to know what both enrollees and non-enrollees in PPOs know and understand about this new option; Frequency: Other: One-time Only; Affected Public: Individuals or Households; Number of Respondents: 38,216; Total Annual Responses: 38,216; Total Annual Hours: 9,556.
2. Type of Information Request: Extension of a currently approved collection; Type of Information Collection: CMS/AoA Aging and Disability Resource Center Grant Program; CMS Form Number: CMS-10093 (OMB# 0938-0903); Use: Information sought by CMSO/DEHPG is needed to award competitive grants to States to develop Aging and Disability Resource Centers; Frequency: Semi-annually; Affected Public: State, local, or tribal government, Not-for-profit institutions, Business or other for-profit; Number of Respondents: 24; Total Annual Responses: 48; Total Annual Burden Hours: 960.
3. Type of Information Collection Request: Extension of a currently approved collection; Title of Information Collection: Medicaid Drug Rebate; Form No.: CMS-304 and CMS-304a (OMB 0938-0676); Use: Section 1927 of the Social Security Act requires State Medicaid agencies to report to drug manufacturers and CMS on the drug utilization for their State and the amount of rebate to be paid by the manufacturer; Frequency: Quarterly; Affected Public: State, local, or tribal government; Number of Respondents: 51; Total Annual Responses: 204; Total Annual Hours: 6,125.
4. Type of Information Collection Request: Extension of a currently approved collection; Title of Information Collection: Medicare Qualification Statement for Federal Employees and Supporting Regulations in 42 CFR 406.15; Form No.: CMS-565 (OMB# 0938-0501); Use: The CMS-565 is completed by individuals filing for hospital insurance ([HI] Part A) benefits based upon their federal employment. This information is needed to determine if SSA/CMS can use (deem) federal employment prior to 1983 to provide quarters of coverage so the individual can qualify for free hospital insurance; Frequency: Other: One-time-only; Affected Public: Individuals or Households, Federal Government, State, Local, or Tribal Government; Number of Respondents: 4,300; Total Annual Responses: 4,300; Total Annual Hours: 717.
5. Type of Information Collection Request: Extension of a currently approved collection; Title of Information Collection: Medicare Consumer Assessment of Health Plan Survey—Medicare + Choice (CAHPS-M+C); Form No.: CMS-R-246(OMB# 0938-0732); Use: Under the Balanced Budget Act of 1997, CMS is required to provide general and plan comparative information to beneficiaries that will help them make more informed health plan choices. A CAHPS fee-for-service survey is needed to provide information comparable to those data collected from the CAHPS managed care survey; Frequency: Annually; Affected Public: Individuals or Households; Number of Respondents: 168,000; Total Annual Responses: 168,000; Total Annual Hours: 55,450.

To obtain copies of the supporting statement and any related forms for the proposed paperwork collections referenced above, access CMS Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: January 22, 2004.
Melissa Musotto,
Acting Paperwork Reduction Act Team Leader, CMS Reports Clearance Officer, Office of Strategic Operations and Strategic Affairs, Division of Regulations Development and Issuances.

[FR Doc. 04-1984 Filed 1-29-04; 8:45 am]
BILLING CODE 4120-03-P